DEPARTMENT OF THE INTERIOR

National Park Service

[NPS-WASO-NAGPRA-NPS0035098; PPWOCRADN0-PCU00RP14.R50000]

Notice of Inventory Completion: Saint Louis Science Center, St. Louis, MO

AGENCY: National Park Service, Interior.

ACTION: Notice.

SUMMARY: In accordance with the Native American Graves Protection and Repatriation Act (NAGPRA), the Saint Louis Science Center (SLSC) has completed an inventory of human remains and associated funerary objects and has determined that there is a cultural affiliation between the human remains and associated funerary objects and Indian Tribes or Native Hawaiian organizations in this notice. The human remains and associated funerary objects were removed from St. Louis County, MO.

DATES: Repatriation of the human remains and associated funerary objects in this notice may occur on or after February 13, 2023.

ADDRESSES: Kristina Hampton, Manager of Collections and Special Projects, Saint Louis Science Center, 5050 Oakland Avenue, St. Louis, MO 63110, telephone (314) 286-4672, email Kristina.hampton@slsc.org.

SUPPLEMENTARY INFORMATION: This notice is published as part of the National Park Service's administrative responsibilities under NAGPRA. The determinations in this notice are the sole responsibility of the SLSC. The National Park Service is not responsible for the determinations in this notice. Additional information on the determinations in this notice, including the results of consultation, can be found in the inventory or related records held by the SLSC.

Description

In 1870, human remains representing, at minimum, one individual were removed from site 23SL3, Big Mound, in St. Louis County, MO, by archeologist Henry M. Whelpley with support from the Academy of Science of St. Louis. Upon his death in 1944, Whelpley donated his archeological collection, amassed during decades of excavations, to the Academy of Science of St. Louis. In 1959, the Academy of Science of St. Louis created the Museum of Science and Natural History in St. Louis, MO. In 1972, the Museum of Science and Natural History separated from the Academy of Science of St. Louis and control of this collection was transferred to the Museum of Science and Natural History. In 1985, when the Museum of Science and Natural History joined with St. Louis City's Planetarium, the newly formed institution was named the Saint Louis Science Center. This collection remains with the SLSC and is used to support the SLSC's mission, exhibits, and programs. No known individual was identified. The one associated funerary object is one lot of perforated shell discs (approximately 86 discs strung on twine).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: oral traditional, linguistic, archeological, and historical.

Determinations

Pursuant to NAGPRA and its implementing regulations, and after consultation with the appropriate Indian Tribes and Native Hawaiian organizations, the SLSC has determined that:

• The human remains described in this notice represent the physical remains of one individual of Native American ancestry.

• The one object described in this notice are reasonably believed to have been placed with or near individual human remains at the time of death or later as part of the death rite or ceremony.

• There is a relationship of shared group identity that can be reasonably traced between the human remains and associated funerary objects described in this notice and The Osage Nation (previously listed as Osage Tribe).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 13, 2023. If competing requests for repatriation are received, the SLSC must determine the most appropriate requestor prior to repatriation. Requests for joint repatriation of the human remains and associated funerary objects are considered a single request and not competing requests. The SLSC is responsible for sending a copy of this notice to the Indian Tribe identified in this notice.

Authority: Native American Graves Protection and Repatriation Act, 25 U.S.C. 3003, and the implementing regulations, 43 CFR 10.9, 10.10, and 10.14.

Dated: January 4, 2023.
Melanie O'Brien,
Manager, National NAGPRA Program.

[FR Doc. 2023-00470 Filed 1-11-23; 8:45 am]

BILLING CODE 4312-52-P